DEPARTMENT OF THE INTERIOR

Bureau of Land Management

[BLM_MT_FRN_MO4500176159]

Notice of Western Montana Resource Advisory Council Meetings

AGENCY: Bureau of Land Management, Interior.

ACTION: Notice of public meetings.

SUMMARY: In accordance with the Federal Land Policy and Management Act of 1976 and the Federal Advisory Committee Act of 1972, the U.S. Department of the Interior, Bureau of Land Management's (BLM) Western Montana District Resource Advisory Council (Council) will meet as follows.

DATES: The Council will hold a virtual meeting on December 11, 2023, from 1 p.m. to 4 p.m. Mountain Time (MT) and an in-person meeting with a virtual participation option on January 11, 2024, from 9 a.m. to 4 p.m. MT in Missoula, Montana.

ADDRESSES: Meeting arrangements, including precise location, will be confirmed for the public via BLM news release, social media, and on the Council's web page at https://www.blm.gov/get-involved/resource-advisory-council/near-you/montana-dakotas/western-montana-rac, and through personal contact at least 2 weeks prior to the meeting.

Written comments for the Council may be sent electronically in advance of the scheduled meeting to Public Affairs Specialist David Abrams at dabrams@blm.gov, or in writing to BLM, Western Montana District/Public Affairs, 101 N Parkmont, Butte, MT 59701. All comments will be provided to the Council.

FOR FURTHER INFORMATION CONTACT: David Abrams, Public Affairs Specialist, BLM Western Montana District Office, telephone: (406) 437-2562, email: dabrams@blm.gov. Individuals in the United States who are deaf, deafblind, hard of hearing, or have a speech disability may dial 711 (TTY, TDD, or TeleBraille) to access telecommunications relay services for contacting Mr. Abrams. Individuals outside the United States should use the relay services offered within their country to make international calls to the point-of-contact in the United States.

SUPPLEMENTARY INFORMATION: The Council provides recommendations to the Secretary of the Interior concerning the planning and management of the public land resources located within the BLM's Western Montana District and offers advice on the implementation of the comprehensive, long-range plan for management, use, development, and protection of the public lands within the District. Agenda topics for the December meeting include a discussion on the proposed Butte BLM Business Plan and fee proposal. Agenda topics for the January meeting include updates/discussions on Restoration Landscape projects and funding from the Missoula and Dillon Field Offices; the Madison River Recreation business plan; the Garnet Ghost Town business plan; field office updates; a summary of recent BLM litigation; and other resource management issues the Council may raise. Updated agendas will be published with the news releases confirming the meeting details 2 weeks before the meeting.

Both meetings are open to the public and a public comment period will be offered at 1:45 p.m. to 2:15 p.m. MT for the Dec. 11 meeting and 3:30 p.m. to 4 p.m. MT for the in-person Jan. 11 meeting. While the January meeting is scheduled from 9 a.m. to 4 p.m., it may end earlier or later depending on the needs of group members. Therefore, members of the public interested in a specific agenda item or discussion should schedule their arrival accordingly. The BLM will provide a virtual participation option via Teams for the January meeting. A link to the Teams meeting will be posted on the Council's web page 2 weeks in advance of the meeting. Individuals who want to participate virtually must register at least 1 week in advance of the meeting.

Please make requests in advance for sign language interpreter services, assistive listening devices, or other reasonable accommodations. We ask that you contact the person listed in the FOR FURTHER INFORMATION CONTACT section of this notice at least seven (7) business days prior to the meeting to allow for sufficient time to process the request. All reasonable accommodation requests are managed on a case-by-case basis.

Before including your address, phone number, email address, or other personal identifying information in your comment, you should be aware that your entire comment—including your personal identifying information—may be made publicly available at any time. While you can ask us in your comment to withhold your personal identifying information from public review, we cannot guarantee that we will be able to do so.

Detailed minutes for Council meetings will be maintained in the BLM Western Montana District Office. Minutes will also be posted to the Council's web page at https://www.blm.gov/get-involved/resource-advisory-council/near-you/montana-dakotas/western-montana-rac.

(Authority: 43 CFR 1784.4-2)

Kathryn A. Stevens,
BLM Western Montana BLM District Manager.

[FR Doc. 2023-25996 Filed 11-24-23; 8:45 am]

BILLING CODE 4331-20-P